POSTAL SERVICE

39 CFR Part 111

Deferral of Compliance Date: Full-Service Intelligent Mail Barcode Requirement To Qualify for Automation Prices

AGENCY: Postal Service™.

ACTION: Final rule; partial deferral of compliance date.

SUMMARY: The Postal Service gives notice that it is deferring the previously-announced compliance date of January 26, 2014, for mailers to use full-service Intelligent Mail® to qualify for automation prices when mailing First-Class Mail®, Standard Mail®; Periodicals®, and Bound Printed Matter® mailpieces.

DATES: The compliance date of the relevant portions of the final rule published April 18, 2013 (78 FR 23137) is delayed indefinitely.

FOR FURTHER INFORMATION CONTACT: Lizbeth J. Dobbins at 202-268-3781.

SUPPLEMENTARY INFORMATION: In Order No. 1890 (November 21, 2013), the Postal Regulatory Commission (PRC) determined that the price changes proposed in Docket No. R2013-10 could take effect as scheduled only if the Postal Service elected to defer the requirement for mailers to use full-service Intelligent Mail to qualify for automation prices.

Consistent with this Order, the United States Postal Service® hereby gives notice that the January 26, 2014, deadline to comply with the full-service Intelligent Mail requirements to qualify for automation prices, previously published on April 18, 2013, in a final rule in the Federal Register (78 FR 23137-23149), is deferred until further notice. Specifically, this deferral applies to the requirements specified in DMM 233.5.1 (First-Class commercial letters and cards); DMM 243.6.1.2, 243.6.4.1, 243.6.5.1, and 243.7.1 (Standard Mail letters); DMM 333.5.1 (First-Class automation flats); DMM 343.7.1 (Standard Mail automation flats); DMM 363.4.1 and 363.6.1 (Bound Printed Matter flats); DMM 705.24.1 (advanced preparation and special postage payment systems); and DMM 707.13.4, 707.14.1, and 707.14.2 (Periodicals). See, 78 FR 23146-23148.

All other requirements that were published in the Federal Register (78 FR 23137-23149) will be implemented on January 26, 2014.

Stanley F. Mires,
Attorney, Legal Policy & Legislative Advice.

[FR Doc. 2013-30705 Filed 12-26-13; 8:45 am]

BILLING CODE 7710-12-P